DEPARTMENT OF LABOR

Employment and Training Administration

[TA-W-73,479A]

Enesco, LLC, Itasco, IL; Notice of Negative Determination on Reconsideration

On October 18, 2010, the Department of Labor issued an Affirmative Determination Regarding Application for Reconsideration for the workers and former workers of Enesco, LLC, Gund Division, Distribution Center, Edison, New Jersey (Enesco-Edison). The Department's Notice was published in the Federal Register on October 29, 2010 (75 FR 66795). The workers supplied packaging and distribution services related to giftware.

The initial investigation was initiated in response to a petition filed on February 17, 2010 by a State of Illinois Workforce Office on behalf of workers of Enesco, LLC, Itasca, Illinois. The petition alleges that “Enesco LLC production of giftware products is currently in China; the company has transferred Quality/Regulatory Compliance Department overseas as well in order to keep production and quality assurance testing in one location.”

Because the petitioner did not provide additional information regarding the worker group, the Department relied on publicly-available materials and the company official identified on the petition for information.

Although the company's headquarters are in Itasca, Illinois, the company official provided information that revealed that the separated workers worked in the distribution center that was part of the Gund Division in Edison, New Jersey (TA-W-73,479). Based on this information, the Department determined that the subject worker group was not Enesco LLC, Itasca, Illinois but Enesco-Edison.

In the request for reconsideration, the State Workforce Office stated that a worker who was in the “Regulatory Compliance/Quality Assurance Department of Enseco, LLC, located in Itasca, Illinois” had “spent over 6 hours on the conference call with China, training someone to perform her duties.” The State Workforce Office further alleges that “all of the Regulatory Compliance/Quality Assurance Department of Enseco LLC was transferred to Hong Kong.” In support of the allegations, the State Workforce Office provided a document titled “Letter to supplier regarding QA & QC” that states “We have expanded our team both in China as well as in our Hong Kong office” (dated March 6, 2009).

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial negative determination was based on the findings that Enesco-Edison did not shift to/acquire from a foreign country the supply of services like or directly competitive with the services supplied by the workers; that the workers' separation, or threat of separation, was not related to an increase in imports of like or directly competitive services; and that the workers are not adversely affected secondary workers.

During the reconsideration investigation, the Department contacted Enesco, LLC and obtained information regarding Enesco, LLC, Itasca, Illinois (Enesco-Itasca) and the worker on whose behalf the petition and request for reconsideration were filed.

New information provided by the subject firm revealed that there is no Regulatory Compliance/Quality Assurance Department; that workers at Enesco-Itasca are separately identifiable by division and separately identifiable within each division by service supplied; and that the worker on whose behalf the petition and the request for reconsideration were filed worked in the logistics division of Enesco-Itasca and supplied quality control services related to the production of toys. Further, Enesco-Itasca does not produce toys; rather, Enesco-Itasca supplies services related to the sales, marketing and development of toys.

Additional information obtained during the reconsideration investigation revealed that the group eligibility requirements under Section 222(a) and (c) of the Act, 19 U.S.C. 2272(a) and (c), have not been met. 29 CFR 90.2 states that a significant number or proportion of the workers means at least three workers in a firm (or appropriate subdivision thereof) with a workforce of fewer than 50 workers, or five percent of the workers or 50 workers, whichever is less, in a workforce of 50 or more workers.

Although the Department was able to confirm separations at the Itasca, Illinois facility, the number or proportion of workers totally or partially separated, or threatened with such separation, at Enesco, LLC, Itasca, Illinois, does not meet the regulatory definition.

Conclusion

After reconsideration, I affirm the original notice of negative determination of eligibility to apply for worker adjustment assistance for workers and former workers of Enesco, LLC, Itasca, Illinois (TA-W-73,479A).

Signed in Washington, DC, on this 2nd day of May, 2011.
Del Min Amy Chen,
Certifying Officer, Office of Trade Adjustment Assistance.

[FR Doc. 2011-11640 Filed 5-11-11; 8:45 am]

BILLING CODE P